DEPARTMENT OF THE INTERIOR

Bureau of Indian Affairs

Indian Gaming

AGENCY: Bureau of Indian Affairs, Interior.

ACTION: Notice of Amendment to Approved Tribal-State Compact.

SUMMARY: This notice publishes approval of the Memorandum of Incorporation of Most Favored Nations Amendments to the Tribal-State Compact for class III gaming between the State of Washington and Lummi Nation.

DATES: Effective Date: September 12, 2006.

FOR FURTHER INFORMATION CONTACT: George T. Skibine, Director, Office of Indian Gaming Management, Office of the Deputy Assistant Secretary—Policy and Economic Development, Washington, DC 20240, (202) 219-4066.

SUPPLEMENTARY INFORMATION: Pursuant to Section 11 of the Indian Gaming Regulatory Act of 1988 (IGRA), Public Law 100-497, 25 U.S.C. 2710, the Secretary of the Interior shall publish in the Federal Register notice of the approved Tribal-State Compact for the purpose of engaging in class III gaming activities on Indian lands. This Amendment authorizes the limited transport of escorted minors across the gaming floor and additional hours of operation for the tribe.

Dated: August 23, 2006.
Michael D. Olsen,
Principal Deputy Assistant Secretary—Indian Affairs.

[FR Doc. E6-15024 Filed 9-11-06; 8:45 am]

BILLING CODE 4310-4N-P